FEDERAL COMMUNICATIONS COMMISSION

Notice of Public Information Collection(s) Being Reviewed by the Federal Communications Commission for Extension Under Delegated Authority, Comments Requested

April 10, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments June 15, 2009. If you anticipate that you will be submitting comments, but find it difficult to do so within the period of time allowed by this notice, you should advise the contact listed below as soon as possible.

ADDRESSES: Direct all PRA comments to Nicholas A. Fraser, Office of Management and Budget (OMB) via fax at 202-395-5167, or the Internet at Nicholas_A._Fraser@omb.eop.gov and to Judith-B.Herman@fcc.gov, Federal Communications Commission (FCC). To submit your comments by email send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an email to Judith B. Herman at 202-418-0214.

SUPPLEMENTARY INFORMATION: OMB Control Number: 3060-0202.

Title: Section 87.37, Developmental License.

Form No.: N/A.

Type of Review: Extension of a currently approved collection.

Respondents: Business or other for-profit; not-for-profit institutions; and state, local or tribal government.

Number of Respondents: 10 respondents; 10 responses.

Estimated Time per Response: 8 hours.

Frequency of Response: On occasion and annual reporting requirements.

Obligation to Respond: Required to obtain or retain benefits. Statutory authority for these information collections are contained in 47 U.S.C. 154, 303 and 307(e) of the Communications Act of 1934, as amended.

Total Annual Burden: 80 hours.

Total Annual Cost: N/A.

Privacy Act Impact Assessment: N/A.

Nature and Extent of Confidentiality: There is no need for confidentiality.

Needs and Uses: The Commission will submit this information collection to the Office of Management and Budget (OMB) after this 60 day comment period in order to obtain the full three year clearance from them. The Commission is requesting an extension (no change in the reporting requirement) of this information collection. The Commission is reporting a decrease of 16 total annual burden hours since this information collection was last submitted to OMB in 2006 for review and approval. The reason for the decrease is fewer respondents (now 10 respondents rather than 12 in 2006).

Each application for a developmental license must be accompanied by a showing. A report on the results of the developmental program must be filed within 60 days of the expiration of the license. A report must accompany a request for renewal of the license. Matters which the applicant does not wish to disclose publicly may be so labeled; they will be used solely for the Commission's information. However, public disclosure is governed by 47 CFR 0.467 of the Commission's rules. The report must include the following:

(1) Results of operation to date;

(2) Analysis of the results obtained;

(3) Copies of any published reports;

(4) Need for continuation of the program; and

(5) Number of hours of operation on each authorized frequency during the term of the license to the date of the report.

The information will be used by Commission personnel to determine the merits of the program for which a developmental authorization is granted. If such information was not collected, the value of developmental programs in the Aviation Service would be severely limited. The Commission would have little, if any information available regarding the advantages and disadvantages of the subject developmental operations and, therefore, would be handicapped in determining whether developmental authorizations should be renewed or a rulemaking should be initiated to accommodate new operations in this radio service.

OMB Control Number: 3060-0132.

Title: Section 90.257, Assignment and Use of Frequencies in the 72-76 MHz Band and Supplemental Information 72-76 MHz Operational Fixed Stations.

Form No.: FCC Form 1068-A.

Type of Review: Extension of a currently approved collection.

Respondents: Individuals or households; business or other for-profit; not-for-profit institutions; and state, local or tribal government.

Number of Respondents: 300 respondents; 300 responses.

Estimated Time per Response: .50 hours (30 minutes).

Frequency of Response: On occasion reporting requirements.

Obligation to Respond: Required to obtain or retain benefits. Authority for these information collections are contained in the Communications Act of 1934, as amended; International Treaties and 47 CFR 90.257 of the Commission's rules.

Total Annual Burden: 150 hours.

Total Annual Cost: $4,500.

Privacy Act Impact Assessment: Yes. The Commission has a System of Records Notice (SORN), FCC/WTB-1, “Wireless Services Licensing Records:, to cover the personally identifiable information affected by these information collection requirements. At this time the Commission is not required to complete a Privacy Impact Assessment.

Nature and Extent of Confidentiality: In general, there is no need for confidentiality. On a case-by-case basis, the Commission may be required to withhold from disclosure certain information about the location, character, or ownership of a historic property, including traditional religious sites.

Needs and Uses: The Commission will submit this information collection to the Office of Management and Budget (OMB) after this 60 day comment period in order to obtain the full three year clearance from them. The Commission is requesting an extension (no change in the reporting requirement) of this information collection. The Commission is reporting a slight decrease of $500 in the estimated annual cost. This is because the last time this information collection was submitted to OMB in 2006, we rounded that estimate to $5,000. The Commission is now reporting actual dollar amounts.

Section 90.257 requires that an applicant agrees to eliminate any harmful interference caused by the operation to TV reception on either channel 4 or channel 5 that might develop. The FCC Form 1068A is used for that purpose. This form must be submitted along with the FCC Form 601 submission as an attachment.

The data will be used by Commission personnel to determine if the information submitted will meet the FCC rule requirements for the assignment of frequencies in the 72-76 MHz band.

Federal Communications Commission.
Marlene H. Dortch,
Secretary.

[FR Doc. E9-8754 Filed 4-15-09; 8:45 am]

BILLING CODE 6712-01-P